SMALL BUSINESS ADMINISTRATION

[Declaration of Disaster #3493]

State of Florida

As a result of the President's major disaster declaration on April 25, 2003, I find that Miami-Dade County in the State of Florida constitutes a disaster area due to damages caused by severe storms and tornadoes occurring on March 27, 2003. Applications for loans for physical damage as a result of this disaster may be filed until the close of business on June 24, 2003 and for economic injury until the close of business on January 26, 2004 at the address listed below or other locally announced locations: U.S. Small Business Administration, Disaster Area 2 Office, One Baltimore Place, Suite 300, Atlanta, GA 30308.

In addition, applications for economic injury loans from small businesses located in the following contiguous counties may be filed until the specified date at the above location: Broward, Collier and Monroe in the State of Florida.

The interest rates are:

| Percent
For Physical Damage:
Homeowners with credit available elsewhere | 5.875
Homeowners without credit available elsewhere | 2.937
Businesses with credit available elsewhere | 6.378
Businesses and non-profit organizations without credit available elsewhere: | 3.189
Others (including non-profit organizations) with credit available elsewhere: | 5.500
For Economic Injury:
Businesses and small agricultural cooperatives without credit available elsewhere: | 3.189

The number assigned to this disaster for physical damage is 349312 and for economic injury the number is 9V0700.

(Catalog of Federal Domestic Assistance Program Nos. 59002 and 59008).
Dated: April 28, 2003.
Herbert L. Mitchell,
Associate Administrator for Disaster Assistance.

[FR Doc. 03-10940 Filed 5-2-03; 8:45 am]

BILLING CODE 8025-01-P